ENVIRONMENTAL PROTECTION AGENCY

[FRL-8720-2]

Draft NPDES General Permit for Offshore Seafood Processors in Alaska (Permit Number AKG524000)

AGENCY: Environmental Protection Agency (EPA).

ACTION: Notice of availability of draft NPDES general permit and request for public comment.

SUMMARY: The Director, Office of Water and Watersheds, EPA Region 10, is proposing to issue a general National Pollutant Discharge Elimination System (NPDES) permit for Offshore Seafood Processors in Alaska, pursuant to the provisions of the Clean Water Act, 33 U.S.C. 1251 et seq. The draft general permit authorizes the discharge of treated seafood processing wastes from new and existing facilities to State and Federal Waters, at least 0.5 nautical miles from shore as delineated by mean lower low water. Interested persons may submit comments on the proposed general permit to EPA Region 10 at the address below. Comments must be received or postmarked by November 10, 2008. A fact sheet has been prepared which sets forth the principle factual, legal, policy, and scientific information considered in the development of the draft general permit.

The draft general permit contains a variety of technology-based and water quality-based effluent limitations, along with administrative and monitoring requirements, as well as other standard conditions, prohibitions, and management practices. Within state waters a 100 foot mixing zone is proposed for residues, dissolved gas, non-hydrocarbon oil and grease, fecal coliform, pH, temperature, color, turbidity, and total residual chlorine. In addition, the permit allows for the issuance of site specific zones of deposit (ZODs) by the Alaska Department of Environmental Conservation (ADEC). The site specific ZODs would only be authorized for facilities discharging between 0.5-1 nautical mile from shore upon application by the discharger. If a discharger requests a ZOD, ADEC would public notice the proposed ZOD authorization before the ZOD is authorized for the discharger. ZODs will be granted through an individual State certification that will be attached to EPA's authorization to discharge letter.

Public Comment: Copies of the draft general permit, fact sheet, Biological Evaluation, Essential Fish Habitat Assessment, Environmental Assessment, Preliminary Finding of No Significant Impact (FONSI), and Ocean Discharge Criteria Evaluation are available upon request. Theses documents may also be downloaded from the Region 10 Web site at http://www.epa.gov/r10earth/waterpermits.htm (click on draft permits, then Alaska). Interested persons may submit written comments to the attention of Lindsay Guzzo at the address below. All comments must include the name, address, and telephone number of the commenter and a concise statement of comment and the relevant facts upon which it is based. Comments of either support or concern which are directed at specific, cited permit requirements are appreciated.

After the expiration date of the Public Notice on November 10, 2008, the Director, Office of Water and Watersheds, EPA Region 10, will make a final determination with respect to issuance of the general permit. The proposed requirements contained in the draft general permit will become final upon issuance if no significant comments are received during the public comment period.

DATES: Comments must be received or postmarked by November 10, 2008.

ADDRESSES: Comments on the proposed general permit should be sent to Lindsay Guzzo, Office of Water and Watersheds; USEPA Region 10; 1200 6th Ave, Suite 900, OWW-130; Seattle, Washington 98101. Comments may also be received via electronic mail at guzzo.lindsay@epa.gov.

FOR FURTHER INFORMATION CONTACT: Additional information can be obtained by contacting Lindsay Guzzo at the address above, or by visiting the Region 10 Web site at http://www.epa.gov/r10earth/waterpermits.htm. Requests may also be made to Audrey Washington at (206) 553-0523, or electronically mailed to: washington.audrey@epa.gov. For further information regarding the State's certification of the general permit, contact Shawn Stokes at the address below.

SUPPLEMENTARY INFORMATION:

Public Informational Meetings

Two public informational meetings will be held to discuss the Proposed Permit, clarify changes and to answer general questions. Two meetings will be held, one in Anchorage on October 15, 2008, in the Westmark Hotel Anchorage, 720 West 5th Avenue, Anchorage, AK 99501, at 5:30 p.m., the other in Seattle on October 28, 2008 in the Red Lion Hotel, 1415 5th Avenue, Seattle, WA 98101 at 5 p.m. These informational meetings will not serve as a formal public hearing on the permit.

Public Hearing

Persons wishing to request a public hearing should submit their written request by November 10, 2008 stating the nature of the issues to be raised as well as the requester's name, address and telephone number to Lindsay Guzzo at the address above. If a public hearing is scheduled, notice will be published in the Federal Register. Notice will also be posted on the Region 10 Web site, and will be mailed to all interested persons receiving letters of the availability of the draft permit.

Administrative Record

The complete administrative record for the draft permit is available for public review at the EPA Region 10 headquarters at the address listed above.

Other Legal Requirements

State Water Quality Standards and State Certification

EPA is also providing Public Notice of ADEC's intent to certify the general permit pursuant to section 401 of the Clean Water Act. ADEC has provided a draft certification that the draft general permit complies with State Water Quality Standards (18 AAC 15), including the State's antidegradation policy.

Persons wishing to comment on State certification of the draft general NPDES permit should send written comments to Mr. Shawn Stokes in ADEC's Anchorage Office, 555 Cordova Street, Anchorage, Alaska 99501, or via electronic mail at Shawn.Stokes@alaska.gov.

National Environmental Policy Act

Because the proposed permit will cover new sources in Alaska, the permit is subject to the National Environmental Policy Act (NEPA). Based on the Environmental Assessment (EA) and consideration of the proposed NPDES permit conditions, and in accordance with the guidelines for determining the significance of proposed federal actions (40 CFR 1508.27) and EPA criteria for initiating an Environmental Impact Statement (EIS) (40 CFR 6.605), EPA has concluded that the proposed NPDES permit will not result in significant effect on the human environment. The proposed permit will not significantly affect land use patterns or population, wetlands or flood plains, threatened or endangered species, farmlands, ecologically critical areas, historic resources, air quality, water quality, noise levels, and fish and wildlife resources. It will also not conflict with approved local, regional, or state land use plans or policies. The proposed permit also conforms with all applicable Federal statutes and executive orders. As a result of these findings, EPA has determined that an EIS will not be prepared and the public is invited to comment on EPA's Preliminary Finding Of No Significant Impacts (FONSI).

Endangered Species Act

Section 7 of the Endangered Species Act requires EPA to consult with the U.S. Fish and Wildlife Service and NOAA Fisheries regarding the potential effects that an action may have on listed endangered or threatened species or their critical habitat. To address these ESA requirements, and in support of EPA's informal consultation with the Services, a Biological Evaluation (BE) was prepared to analyze these potential effects. During the development of the draft general permit, information provided by the Services was used to identify species of interest for consideration in the BE. The results of the BE concluded that discharges from Offshore Seafood Processing facilities will either have no effect or are not likely to adversely affect threatened or endangered species in the vicinity of the discharges. The fact sheet, the draft permits and the BE are being reviewed by the Services for consistency with those programs established for the conservation of endangered and threatened species. Any additional comments or conservation recommendations received from the Services regarding threatened or endangered species will be considered prior to issuance of the GPs.

Magnuson-Stevens Fishery Conservation and Management Act

Section 305(b) of the Magnuson-Stevens Act (16 U.S.C. 1855(b)) requires federal agencies to consult with NOAA Fisheries when any activity proposed to be permitted, funded, or undertaken by a federal agency may have an adverse effect on designated Essential Fish Habitat (EFH) as defined by the Act. To address the requirements of the Magnuson-Stevens Act, EPA prepared an EFH Assessment concluding that offshore seafood processors operations may adversely affect essential fish habitat. However, EPA expects that effects on essential fish habitat, while possible, are likely to be limited in extent for several reasons. For more information please see the Biological Evaluation/ EFH assessment. As with ESA, any additional comments or conservation recommendations received from NOAA Fisheries regarding EFH will be considered prior to issuance of the GPs.

Executive Order 12866

EPA has determined that this general permit is not a “significant regulatory action” under the terms of Executive Order 12866 and is therefore not subject to OMB review.

Paperwork Reduction Act

The information collection requirements of this permit were previously approved by the Office of Management and Budget (OMB) under the provisions of the Paperwork Reduction Act, 44 U.S.C. 3501 et seq., and assigned OMB control numbers 2040-0086 and 2040-0110.

Regulatory Flexibility Act

The Regulatory Flexibility Act (RFA), 5 U.S.C. 601 et seq., requires that EPA prepare a regulatory flexibility analysis for rules subject to the requirements of 5 U.S.C. 553(b) that have a significant impact on a substantial number of small entities. However, general NPDES permits are not “rules” subject to the requirements of 5 U.S.C. 553(b), and is therefore not subject to the RFA.

Unfunded Mandates Reform Act

Section 201 of the Unfunded Mandates Reform Act (UMRA), Public Law 104-4, generally requires Federal agencies to assess the effects of their “regulatory actions” (defined to be the same as “rules” subject to the RFA) on tribal, State, and local governments and the private sector. However, general NPDES permits are not “rules” subject to the requirements of 5 U.S.C. 553(b), and is therefore not subject to the RFA.

Dated: September 18, 2008.
Michael F. Gearheard,
Director, Office of Water and Watersheds, Region 10.

[FR Doc. E8-22553 Filed 9-25-08; 8:45 am]

BILLING CODE 6560-50-P